DEPARTMENT OF COMMERCE

National Oceanic and Atmospheric Administration

RIN 0648-XG481

North Pacific Fishery Management Council; Public Meeting

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet October 1, 2018 through October 9, 2018.

DATES: The Council will begin its plenary session at 8 a.m. in the Aleutian Room on Wednesday, October 3, 2018 continuing through Tuesday, October 9, 2018. The Scientific and Statistical Committee (SSC) will begin at 8 a.m. in the King Salmon/Iliamna Room on Monday, October 1, 2018 and continue through Wednesday, October 3, 2018. The Council's Advisory Panel (AP) will begin at 8 a.m. in the Dillingham/Katmai Room on Tuesday, October 2, 2018 and continue through Friday, October 5, 2018. The Ecosystem Committee will meet on Tuesday, October 2, 2018 in the Birch/Willow room from 1 p.m. to 5 p.m.

ADDRESSES: The meeting will be held at the Anchorage Hilton Hotel, 500 W 3rd Ave., Anchorage, AK 99501.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION:

Agenda

Monday, October 1, 2018 through Tuesday, October 9, 2018

Council Plenary Session: The agenda for the Council's plenary session will include the following issues. The Council may take appropriate action on any of the issues identified.

1. Executive Director's Report (including report on ideas for public forums, SSC survey workgroup report)

2. NMFS Management Report (including report on ACLIM and the IPCC climate meeting (T))

3. NOAA GC Report

4. ADF&G Report

5. USCG Report

6. USFWS Report

7. Protected Species Report

8. Halibut Decksorting EFP—Report on 2018

9. BSAI Crab Specifications for 4 stocks—Final Specifications, PT report

10. Groundfish Harvest Specifications—Proposed Specifications, PT reports

11. 2019 Observer Program Annual Deployment Plan—Review; FMAC, EMC Reports

12. Halibut retention in BSAI pots—Final action

13. Bering Sea Fishery Ecosystem Plan—Initial Review

14. BSAI Halibut Abundance-based Management PSC Limits—Preliminary Review

15. AI Pacific cod set aside adjustment—Initial Review

16. IFQ medical lease, beneficiary designation provisions—Initial Review

17. IFQ CQE fish up in 3A—Discussion paper

18. Small sablefish retention—Discussion paper

19. Unguided halibut rental boats—Discussion paper

The Advisory Panel will address Council agenda items (9) through (19). The SSC agenda will include the following issues:

1. SSC survey workgroup report

2. BSAI Crab Specifications for 4 stocks—Final Specifications, PT report

3. Groundfish Harvest Specifications—Proposed Specifications, PT reports

4. 2019 Observer Program Annual Deployment Plan—Review

5. BSAI Halibut Abundance-based Management PSC Limits—Preliminary Review

6. Bering Sea Fishery Ecosystem Plan—Initial Review

7. AI Pacific cod set aside adjustment—Initial Review

8. IFQ medical lease, beneficiary designation provisions—Initial Review

The Ecosystem Committee agenda will include review of the Bering Sea Fishery Ecosystem Plan, NOAA Ecosystem-Based Fisheries Management Implementation Plan, and other business.

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Agendas are subject to change, and the latest versions will be posted at http://www.npfmc.org/.

Public Comment

Public comment letters will be accepted and should be submitted either electronically via the eCommenting portal at: meetings.npfmc.org or through the mail: North Pacific Fishery Management Council, 605 W 4th Ave., Suite 306, Anchorage, AK 99501-2252.

Special Accommodations

These meetings are physically accessible to people with disabilities. Requests for sign language interpretation or other auxiliary aids should be directed to Shannon Gleason at (907) 271-2809 at least 7 working days prior to the meeting date.

Dated: September 11, 2018.
Tracey L. Thompson,
Acting Deputy Director, Office of Sustainable Fisheries, National Marine Fisheries Service.

[FR Doc. 2018-20025 Filed 9-13-18; 8:45 am]

BILLING CODE 3510-22-P